DEPARTMENT OF COMMERCE

Bureau of Export Administration

Critical Infrastructure Assurance Office; Announcement of a Workshop on Public Key Infrastructure for Advanced Network Technologies

AGENCY: Bureau of Export Administration, Critical Infrastructure Assurance Office.

ACTION: Notice of Public Meeting/Workshop.

SUMMARY: The Critical Infrastructure Assurance Office (CIAO) invites interested parties to attend a workshop on April 27-28, 2000, on Public Key Infrastructures for Advanced Network Technologies. The workshop is designed to promote the deployment and use of a high confidence public key infrastructure and related security technologies for advanced networks and distributed government applications in E-commerce and related critical systems.

DATES: The workshop will be held on April 27-28, 2000, starting at 8:30 am until 5:00 pm.

ADDRESSES: The workshop will be held at the National Institute of Standards and Technology (NIST), Building 101, Lecture Room A. Gaithersburg, MD, 20899. Attendance is open to all interested persons, but seating is limited. Therefore, registration for attendance will be accepted on a first-come basis. To register please contact Wanda Rose at (202) 589-3241 or by E-mail: Wanda.Rose@ciao.gov.

FOR FURTHER TECHNICAL INFORMATION CONTACT: Robert Rosenthal, Critical Infrastructure Assurance Office, 1800 G St., NW, 8th floor, Washington, D.C. 20006; Phone number: (202) 589-3231; E-mail: Robert.Rosenthal@ciao.gov.

SUPPLEMENTARY INFORMATION: • The workshop is designed to promote the deployment and use of a high confidence public key infrastructure and related security technologies for advanced networks and distributed government applications in E-commerce and related critical systems in banking and finance, energy, transportation, and telecommunications sectors.

• The workshop is intended to contribute to the development of collaborative interagency research and development agenda executed under the High Confidence Systems and Software, Large Scale Networking, and Critical Infrastructure Protection Research and Development Programs.

• The workshop is designed to identify opportunities for U.S. government agencies to develop collaborative experiments and test beds that address issues related to scalability, interoperability, testing and robustness in the face of attacks on public key infrastructure systems; and to facilitate discussion between people who understand public key infrastructure technology and those who might propose policies and legal frameworks.

• In addition, the workshop will explore technology transfer opportunities that enable new markets for next generation public key infrastructures for the Internet and will facilitate movement of public key infrastructure towards becoming a high confidence assured Internet service.

Copies of the agenda for the workshop will be available on CIAO's web site: www.CIAO.gov.

William A. Reinsch,
Under Secretary for Export Administration.

[FR Doc. 00-8944 Filed 4-10-00; 8:45 am]

BILLING CODE 3510-33-M